Title 3—

The President

Proclamation 7999 of April 7, 2006

Pan American Day and Pan American Week, 2006

By the President of the United States of America

A Proclamation

During Pan American Day and Pan American Week, we honor the commitment to liberty and common values we share with our Pan American neighbors.

The love of freedom has deep roots in the Pan American community. Not long after the United States won independence from Britain, patriots throughout the Americas were inspired to take their own stand. Today, there are more than 30 democratic countries in the region, and through the Organization of American States, leaders in the Western Hemisphere have an opportunity to discuss shared goals, promote prosperity, and strengthen democratic governance and institutions.

One of the surest ways to make opportunity real for all our citizens is through free and fair trade. In August 2005, I signed legislation to implement the Dominican Republic-Central America-United States Free Trade Agreement (CAFTA-DR). Our investment and trade through the CAFTA-DR will help build a better life for our citizens, and by reducing trade barriers, we can make our region more competitive in the global economy. Strong economic ties with democracies in our hemisphere foster stability and security and help lay the foundation for peace for generations to come.

The people of the Western Hemisphere are united by history, geography, and shared ideals. We will continue our important work to build a region that lives in liberty and grows in prosperity.

NOW, THEREFORE, I, GEORGE W. BUSH, President of the United States of America, by virtue of the authority vested in me by the Constitution and laws of the United States, do hereby proclaim April 14, 2006, as Pan American Day and April 9 through April 15, 2006, as Pan American Week. I urge the Governors of the 50 States, the Governor of the Commonwealth of Puerto Rico, and the officials of other areas under the flag of the United States of America to honor these observances with appropriate ceremonies and activities.

IN WITNESS WHEREOF, I have hereunto set my hand this seventh day of April, in the year of our Lord two thousand six, and of the Independence of the United States of America the two hundred and thirtieth.

B

[FR Doc. 06-3530

Filed 4-10-05; 8:50 am]

Billing code 3195-01-P